INTERNATIONAL TRADE COMMISSION

[Investigation No. 731-TA-1178 (Preliminary)]

Glyphosate From China

AGENCY: United States International Trade Commission.

ACTION: Notice of withdrawal of petition in antidumping investigation.

SUMMARY: On April 29, 2010, the Department of Commerce and the Commission received letters on behalf of the petitioner in the subject investigation (Albaugh, Inc., Ankeny, IA) withdrawing its petition. Commerce has not initiated an investigation as provided for in section 732(c) of the Tariff Act of 1930 (19 U.S.C. 1673a(c)). Accordingly, the Commission gives notice that its antidumping investigation concerning glyphosate from China (investigation No. 731-TA-1178 (Preliminary)) is discontinued.

DATES: Effective Date: April 29, 2010.

FOR FURTHER INFORMATION CONTACT: Amy Sherman (202-205-3289), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

By order of the Commission.
Issued: April 30, 2010.
Marilyn R. Abbott,
Secretary to the Commission.

[FR Doc. 2010-10649 Filed 5-5-10; 8:45 am]

BILLING CODE 7020-02-P